DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of June 2002.

In order for an affirmative determination to be made and a certification of eligibility to apply for worker adjustment assistance to be issued, each of the group eligibility requirements of section 222 of the Act must be met.

(1) That a significant number or proportion of the workers in the workers' firm, or an appropriate subdivision thereof, have become totally or partially separated,

(2) that sales or production, or both, of the firm or sub-division have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,646; L.B. Foster Co., Pomeroy, OH

TA-W-40,533; Froedtert Malting, A Div. Of International Malting Co LLC, Milwaukee, WI

TA-W-41,088; Crompton and Knowles Colors, Inc., Reading, PA

TA-W-41,537; AmeriSteel Corp., Dust Processing Div., Jackson, TN

TA-W-41,143; Liebert Corp., Delaware, OH: “All workers who are engaged in the production of surge suppressors are denied eligibility to apply for adjustment assistance”

In the following cases, the investigation revealed that the criteria for eligibility have not been met for the reasons specified.

The workers firm does not produce an article as required for certification under Section 222 of the Trade Act of 1974.

TA-W-39,906; Metals USA, Flat Rolled Div., Youngstown, OH

TA-W-40,596; Alcoa Fujikura Ltd., El Paso, TX

TA-W-41,404; Stream International, Inc., A Div. Of Solectron, Dallas, TX

Increased imports did not contribute importantly to worker separations at the firm.

TA-W-40,824; Fort Dearborn Co., Coldwater, MI

TA-W-40,849; Denso Sales California, Inc., Long Beach, CA

TA-W-39,980; M & S Manufacturing Co., Plant 15, Morenci, MI

TA-W-41,054; Trinity Industries, Springfield, MO

TA-W-41,133; Baldwin Piano and Organ Co., Greenwood, MS

TA-W-41,313; Goodrich Corp., Arkadelphia, AR

TA-W-40,697; First Source Furniture Group, A Subsidiary of Haworth, Inc., Halls, TN

TA-W-40,789; Ferro Corp., Pittsburgh, PA

Affirmative Determinations for Worker Adjustment Assistance

The following certifications have been issued; the date following the company name and location of each determination references the impact date for all workers of such determination.

TA-W-40,931; Cone Blanchard Corp., A Subsidiary of Park Corp., Windsor, VT: January 24, 2001.

TA-W-40,937; IBM Corp., Storage Technology Div., Rochester, MN: January 21, 2001.

TA-W-40,929; Loranger Manufacturing Corp., Warren, PA: January 15, 2001.

TA-W-40,909; Bowater, Inc., Bowater Newsprint Coosa Pines Operations, Formerly Alliance Forest Products, Inc., Coosa Pines, AL: December 3, 2000.

TA-W-40,646; GE Superabrasives, A Subsidiary of GE Specialty Materials, Worthington, OH: November 28, 2000.

TA-W-40,640; The Timken Co., Canton, OH: October 14, 2001.

TA-W-40,609; Leybold Vacuum USA, Inc., Export, PA: December 7, 2000.

TA-W-40,397; Lorber Industries, of Texas, Snyder, TX: October 22, 2000.

TA-W-40,300; ADC Communications, Minnetonka, MN: October 9, 2000.

TA-W-40,111; SCI Enclosures (Formerly CMS Hartzell), Richmond, KY: September 17, 2000.

TA-W-39,865; Measurement Specialties, Inc., Schaevitz Sensors Div., Hampton, VA: August 7, 2000.

TA-W-41,642; Parksley Apparel, Parksley, VA: May 24, 2001.

TA-W-41,449; Biljo, Inc., Dublin, GA: June 2, 2002.

TA-W-41,384; Chicago Mold Engineering Co., Inc., St. Charles, IL: March 26, 2001.

TA-W-41,328; New World Pasta, Lebanon, PA: March 22, 2001.

TA-W-41,320; South Coast Lumber Co., Brookings, OR: March 13, 2001.

TA-W-41,252; Rosebar Textile Co., Inc., Paterson, NJ: March 8, 2001.

TA-W-41,200; Tapetex, A Div. Of Duro Industries, Rochester, NY: February 28, 2001.

TA-W-41,143; Liebert Corp., Delaware, OH: February 25, 2001. “All workers engaged in the production of battery back-ups for main frame computers are eligibility to apply for adjustment assistance under Section 223 of the Trade Act of 1974.”

TA-W-41,124; Simpson Timber Co., Shelton, WA: February 14, 2001.

TA-W-41,115 & A, B; Insteel Industries, In., Mount Airy, NC, Insteel Wire Products Co., A Subsidiary of Insteel Industries, Inc., 184 Insteel Drive, Andrews, SC and 185 Insteel Drive, Andrews, SC: February 20, 2001.

TA-W-41,095 & A; Woolrich, Inc., Woolrich, PA and Jersey Shore, PA: June 22, 2001.

TA-W-41,094; STMicroelectronics, Inc., San Diego, CA: February 28, 2001.

TA-W-41,048; Grede Foundries, Inc., Grede-Pryor Foundry, Pryor, OK: January 26, 2001.

TA-W-41,033; Accuride Corp., Columbia, TN: January 17, 2001.

TA-W-40,996; Kosa, Spartanburg, SC: January 28, 2001.

TA-W-40,991; Telex Communications, Inc., Buchanan, MI: January 18, 2001.

Also, pursuant to Title V of the North American Free Trade Agreement Implementation Act (P.L. 103-182) concerning transitional adjustment assistance hereinafter called (NAFTA-TAA) and in accordance with Section 250(a), Subchaper D, Chapter 2, Title II, of the Trade Act as amended, the Department of Labor presents summaries of determinations regarding eligibility to apply for NAFTA-TAA issued during the month of June, 2002.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases im ports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-06040; Kaijay Pants Co., A Div. Of Warnaco, Nesquehoning, PA

NAFTA-TAA-05088; AP Green Industries, Inc., A Subsidiary of RHI America, (RHI Refractories holding Co.), Mexico, MO

NAFTA-TAA-05303; M and S Manufacturing Co., Plant 15, Morenci, MI

NAFTA-TAA-05409; JEM Sportswear, Inc., San Fernando, CA

NAFTA-TAA-05561; Osan Manufacturing, Boyertown, PA

NAFTA-TAA-05782; Allegro Microsystems, Inc., A Subsidiary of Sankin Electric, Ltd, Willow Grove, PA

NAFTA-TAA-05793; Ferro Corp., Pittsburgh, PA

NAFTA-TAA-05886; Trinity Industries, Inc., Springfield, MO

NAFTA-TAA-05910; Liebert Corp., Delaware, OH “All worker engaged in the production of surge protectors are denied eligibility to apply for NAFTA-TAA under Section 250 of the Trade Act of 1974.

NAFTA-TAA-05937; Denso Sales California, Inc., Long Beach, CA: “All workers engaged in the production of automotive cooling units and refurbished automotive parts, are denied eligibility to apply for NAFTA-TAA under Section 250 of the Trade Act of 1974.”

NAFTA-TAA-05975; S.D. Warren Co, d/b/a/ Sappi Fine Paper North America, Somerset Operations, Skowhegan, ME

NAFTA-TAA-6111; International Paper, Industrial Packaging Containerboard and Kraft, Oswego, NY

The investigation revealed that the criteria for eligibility have not been met for the reasons specified.

The investigation revealed that workers of the subject firm did not produce an article within the meaning of Section 250(a) of the Trade Act, as amended.

NAFTA-TAA-06122; Stream International Inc., A Div. Of Solectron, Dallas, TX

NAFTA-TAA-05740; REM Electronics Supply Co., Inc., El Paso, TX

NAFTA-TAA-05258; Metals USA, Flat Rolled Div., Youngstown, OH

The investigation revealed that criteria (1) has not been met. A significant number or proportion of the workers in such workers' firm or an appropriate subdivision (including workers in any agricultural firm or appropriate sub-division thereof) did not become totally or partially separated from employment.

NAFTA-TAA-06112; Ivaco Stel Processing LLC., Tonawanda, NY

Affirmative Determinations NAFTA-TAA

NAFTA-TAA-05937; Denso Sales California, Inc., Long Beach, CA: March 1, 2001. “All workers engaged the production of automotive tubes and hoses, automotive air conditioning kits and portable air conditioners, are eligibility to apply for NAFTA-TAA under Section 250 of the Trade Act of 1974.”

NAFTA-TAA-05910; Liebert Corp., Delaware, OH: February 1, 2001. “All workers engaged in the production of battery back-ups for main frame computers, are eligible to apply for NAFTA-TAA under Section 250 of the Trade Act of 1974.”

NAFTA-TAA-06173; AmeriSteel Corp., Dust Processing Div., Jackson, TN: April 23, 2001.

NAFTA-TAA-5437; ADC Communications, Minnetonka, MN: October 9, 2000.

NAFTA-TAA-05746; Loranger Manufacturing Corp., Warren, PA: January 14, 2001.

NAFTA-TAA-05750; Telex Communications, Inc., Buchanan, MI: January 18, 2001.

NAFTA-TAA-5806; Accuride Corp., Columbia, TN: January 25, 2001.

NAFTA-TAA-05847; Bowater, Inc., Bowater Newsprint Coosa Pines Operations, Formerly Alliance Forest Products, Inc., Coosa Pines, AL: January 28, 2001.

NAFTA-TAA-06000; General Electric Co., Small Motors, Owensboro, KY: March 15, 2001.

NAFTA-TAA-06001; South Coast Lumber Co., Brookings, OR: March 18, 2001.

NAFTA-TAA-06057; Chicago Mold Engineering Co., Inc., St. Charles, IL: March 26, 2001.

NAFTA-TAA-06061; Owens-Brigam Medical Co., Headquarters, Morganton, NC: April 1, 2001.

NAFTA-TAA-06099; Biljo, Inc., Dublin, GA: June 2, 2002.

I hereby certify that the aforementioned determinations were issued during the month of June, 2002. Copies of these determinations are available for inspection in Room C-5311, U.S. Department of Labor, 200 Constitution Avenue, NW., Washington, DC 20210 during normal business hours or will be mailed to persons who write to the above address.

Dated: June 14, 2002.
Edward A. Tomchick,
Director, Division of Trade Adjustment Assistance.

[FR Doc. 02-15850 Filed 6-21-02; 8:45 am]

BILLING CODE 4510-30-P